DEPARTMENT OF HEALTH AND HUMAN SERVICES

National Institutes of Health

National Cancer Institute; Amended Notice of Meeting

Notice is hereby given of a change in the meeting of the President's Cancer Panel, March 23, 2009, 12:30 p.m. to March 23, 2009, 3 p.m., National Institutes of Health, 6116 Executive Boulevard, Rockville, MD 20852 which was published in the Federal Register on March 19, 2009, 74 FR 11741.

This meeting is being amended to reschedule the meeting to Tuesday, March 31, 2009, 10 a.m. to 12:30 p.m. as a telephone conference. The meeting is closed to the public.

Dated: March 25, 2009.
Jennifer Spaeth,
Director, Office of Federal Advisory Committee Policy.

[FR Doc. E9-7318 Filed 4-2-09; 8:45 am]

BILLING CODE 4140-01-M